DEPARTMENT OF ENERGY

Federal Energy Regulatory Commission

Combined Notice of Filings

Take notice that the Commission has received the following Natural Gas Pipeline Rate and Refund Report filings:

Filings Instituting Proceedings

Docket Numbers: PR15-20-000.

Applicants: Wisconsin Power and Light Company.

Description: Submits tariff filing per 284.123(b)(1) + (g): Statement of Operating Conditions Reflecting New Rates to be effective 2/16/2015; Filing Type: 1300.

Filed Date: 2/13/15.

Accession Number: 20150213-5256.

Comments Due: 5 p.m. ET 3/6/15.

284.123(g) Protests Due: 5 p.m. ET4/14/15.

Docket Numbers: PR15-21-000.

Applicants: Bay Gas Storage Company, Ltd.

Description: Submits tariff filing per 284.123(e)/.224: Bay Gas Annual Adjustment to Company Use Percentage to be effective 3/1/2012; Filing Type: 770.

Filed Date: 2/18/15.

Accession Number: 20150218-5072.

Comments/Protests Due: 5 p.m. ET3/11/15.

Docket Numbers: PR15-22-000.

Applicants: Kinder Morgan Keystone Gas Storage LLC.

Description: Submits tariff filing per 284.123(e) + (g): Operating Statement Update Filing to be effective 4/1/2015; Filing Type: 1280.

Filed Date: 2/20/15.

Accession Number: 20150220-5094.

Comments Due: 5 p.m. ET3/13/15.

284.123(g) Protests Due: 5 p.m. ET 4/21/15.

Docket Numbers: RP15-461-000.

Applicants: Transcontinental Gas Pipe Line Company.

Description: Compliance filing per 154.203: Pro Forma Rate Schedule FTP.

Filed Date: 2/18/15.

Accession Number: 20150218-5046.

Comments Due: 5 p.m. ET 3/2/15.

Docket Numbers: RP15-462-000.

Applicants: Transcontinental Gas Pipe Line Company,

Description: Section 4(d) rate filing per 154.204: Woodbridge Delivery Lateral Initial Rate Filing to be effective 4/1/2015.

Filed Date: 2/18/15.

Accession Number: 20150218-5053.

Comments Due: 5 p.m. ET 3/2/15.

Docket Numbers: RP15-463-000.

Applicants: PGPipeline LLC.

Description: Section 4(d) rate filing per 154.204: Annual Adjustment of Fuel and Gas Loss Retention Percentage to be effective 4/1/2015.

Filed Date: 2/18/15.

Accession Number: 20150218-5065.

Comments Due: 5 p.m. ET 3/2/15.

Docket Numbers: RP15-464-000.

Applicants: LA Storage, LLC.

Description: Section 4(d) rate filing per 154.402: LA Storage Annual Adjustment of Fuel Retainage Percentage to be effective 10/1/2013.

Filed Date: 2/18/15.

Accession Number: 20150218-5079.

Comments Due: 5 p.m. ET 3/2/15.

Docket Numbers: RP15-465-000.

Applicants: Southern Star Central Gas Pipeline, Inc.

Description: Section 4(d) rate filing per 154.204: Vol 2—Negotiated and Non-Conforming Rate Agreement-BP Energy Company to be effective2/18/2015.

Filed Date: 2/18/15.

Accession Number: 20150218-5170.

Comments Due: 5 p.m. ET 3/2/15.

Docket Numbers: RP15-466-000.

Applicants: Iroquois Gas Transmission System, L.P.

Description: Section 4(d) rate filing per 154.204: 02/18/15 Negotiated Rates—ConEdison Energy Inc. (HUB) 2275-89 to be effective 2/13/2015.

Filed Date: 2/18/15.

Accession Number: 20150218-5194.

Comments Due: 5 p.m. ET 3/2/15.

Docket Numbers: RP15-467-000.

Applicants: Iroquois Gas Transmission System, L.P.

Description: Section 4(d) rate filing per 154.204: 02/18/15 Negotiated Rates—Mercuria Energy Trading Gas LLC (HUB) 7540-89 to be effective2/13/2015.

Filed Date: 2/18/15.

Accession Number: 20150218-5199.

Comments Due: 5 p.m. ET 3/2/15.

Docket Numbers: RP15-468-000.

Applicants: Iroquois Gas Transmission System, L.P.

Description: Section 4(d) rate filing per 154.204: 02/18/15 Negotiated Rates—Nextera Energy Power Marketing, LLC (RTS) 4015-07 to be effective 2/18/2015.

Filed Date: 2/18/15.

Accession Number: 20150218-5200.

Comments Due: 5 p.m. ET 3/2/15.

Docket Numbers: RP15-469-000.

Applicants: Cheyenne Plains Gas Pipeline Company, L.

Description: Section 4(d) rate filing per 154.601: Negotiated Rate TSA Update (Mieco) to be effective2/18/2015.

Filed Date: 2/18/15.

Accession Number: 20150218-5216.

Comments Due: 5 p.m. ET 3/2/15.

Docket Numbers: RP15-470-000.

Applicants: Northern Natural Gas Company.

Description: Section 4(d) rate filing per 154.204: 20150218 Negotiated Rate to be effective 2/19/2015.

Filed Date: 2/18/15.

Accession Number: 20150218-5265.

Comments Due: 5 p.m. ET 3/2/15.

Docket Numbers: RP15-471-000.

Applicants: Tennessee Gas Pipeline Company, L.L.C.

Description: Section 4(d) rate filing per 154.204: Zone 1 Supply Area Pooling Area Revisions to be effective4/1/2015.

Filed Date: 2/18/15.

Accession Number: 20150218-5293.

Comments Due: 5 p.m. ET 3/2/15.

Docket Numbers: RP15-472-000.

Applicants: Columbia Gas Transmission, LLC.

Description: Section 4(d) rate filing per 154.204: Negotiated Rate Service Agreement—Exelon to be effective2/19/2015.

Filed Date: 2/18/15.

Accession Number: 20150218-5316.

Comments Due: 5 p.m. ET 3/2/15.

Docket Numbers: RP15-473-000.

Applicants: Transcontinental Gas Pipe Line Company.

Description: Section 4(d) rate filing per 154.204: Mobile Bay South III Expansion Initial Rate Filing to be effective 4/1/2015.

Filed Date: 2/19/15.

Accession Number: 20150219-5031.

Comments Due: 5 p.m. ET 3/3/15.

Docket Numbers: RP15-474-000.

Applicants: Texas Eastern Transmission, LP.

Description: Section 4(d) rate filing per 154.204: TETLP Statements of Negotiated Rates Tariff Volume to be effective 4/1/2015.

Filed Date: 2/19/15.

Accession Number: 20150219-5036.

Comments Due: 5 p.m. ET 3/3/15.

Docket Numbers: RP15-475-000.

Applicants: Southeast Supply Header, LLC.

Description: Section 4(d) rate filing per 154.204: Negotiated Rates Filing—Tenaska Marketing Ventures K940006 to be effective 4/1/2015.

Filed Date: 2/19/15.

Accession Number: 20150219-5041.

Comments Due: 5 p.m. ET 3/3/15.

Docket Numbers: RP15-476-000.

Applicants: Gulf South Pipeline Company, LP.

Description: Section 4(d) rate filing per 154.204: Amendments to Neg Rate Agmts (Pivotal 34691-8 & VaNat 34695-10) to be effective 2/19/2015.

Filed Date: 2/19/15.

Accession Number: 20150219-5053.

Comments Due: 5 p.m. ET 3/3/15.

Docket Numbers: RP15-477-000.

Applicants: Southern Natural Gas Company, L.L.C.

Description: Section 4(d) rate filing per 154.204: Fuel Retention Rates—Spring 2015 to be effective 4/1/2015.

Filed Date: 2/19/15.

Accession Number: 20150219-5074.

Comments Due: 5 p.m. ET 3/3/15.

Docket Numbers: RP15-478-000.

Applicants: Iroquois Gas Transmission System, L.P.

Description: Section 4(d) rate filing per 154.204: 02/19/15 Negotiated Rates—ConEdison Energy Inc. (HUB) 2275-89 to be effective 2/18/2015.

Filed Date: 2/19/15.

Accession Number: 20150219-5113.

Comments Due: 5 p.m. ET 3/3/15.

Docket Numbers: RP15-479-000.

Applicants: Iroquois Gas Transmission System, L.P.

Description: Section 4(d) rate filing per 154.204: 02/19/15 Negotiated Rates—Mercuria Energy Trading Gas LLC (HUB) 7540-89 to be effective2/18/2015.

Filed Date: 2/19/15.

Accession Number: 20150219-5115.

Comments Due: 5 p.m. ET 3/3/15.

Docket Numbers: RP15-480-000.

Applicants: Iroquois Gas Transmission System, L.P.

Description: Section 4(d) rate filing per 154.204: 02/19/15. Negotiated Rates—Sequent Energy Management (HUB) 3075-89 to be effective 2/18/2015.

Filed Date: 2/19/15.

Accession Number: 20150219-5116.

Comments Due: 5 p.m. ET 3/3/15.

Docket Numbers: RP15-481-000.

Applicants: Iroquois Gas Transmission System, L.P.

Description: Section 4(d) rate filing per 154.204: 02/19/15. Negotiated Rates—United Energy Trading, LLC (HUB) 5095-89 to be effective 2/18/2015.

Filed Date: 2/19/15.

Accession Number: 20150219-5120.

Comments Due: 5 p.m. ET 3/3/15.

Docket Numbers: RP15-482-000.

Applicants: Midwestern Gas Transmission Company.

Description: Section 4(d) rate filing per 154.204: Negotiated Rate PAL Agreements—Tenaska Marketing & Exelon Generation to be effective 2/19/2015.

Filed Date: 2/19/15.

Accession Number: 20150219-5166.

Comments Due: 5 p.m. ET 3/3/15.

Docket Numbers: RP15-483-000.

Applicants: Northern Natural Gas Company.

Description: Section 4(d) rate filing per 154.204: 20150219 Negotiated Rate to be effective 2/19/2015.

Filed Date: 2/19/15.

Accession Number: 20150219-5180.

Comments Due: 5 p.m. ET 3/3/15.

Docket Numbers: RP15-484-000.

Applicants: Midcontinent Express Pipeline LLC.

Description: Annual Report of Operational Purchases and Sales of Midcontinent Express Pipeline LLC.

Filed Date: 2/19/15.

Accession Number: 20150219-5200.

Comments Due: 5 p.m. ET 3/3/15.

Docket Numbers: RP15-485-000.

Applicants: Guardian Pipeline, L.L.C.

Description: Section 4(d) rate filing per 154.204: Negotiated Rate PAL Agreement—Exelon Generation Company, LLC to be effective 2/20/2015.

Filed Date: 2/20/15.

Accession Number: 20150220-5060.

Comments Due: 5 p.m. ET 3/4/15.

Docket Numbers: RP15-486-000.

Applicants: Hess Corporation, Hess Trading Corporation.

Description: Petition of Hess Corporation and Hess Trading Corporation for Waiver and Non-Conforming Contract Authorization.

Filed Date: 2/19/15.

Accession Number: 20150219-5207.

Comments Due: 5 p.m. ET 2/27/15.

Docket Numbers: RP15-487-000.

Applicants: Millennium Pipeline Company, LLC.

Description: Section 4(d) rate filing per 154.204: RAM 2015 to be effective 4/1/2015.

Filed Date: 2/20/15.

Accession Number: 20150220-5084.

Comments Due: 5 p.m. ET 3/4/15.

Docket Numbers: RP15-488-000.

Applicants: Iroquois Gas Transmission System, L.P.

Description: Section 4(d) rate filing per 154.204: 02/20/15. Negotiated Rates—ConEdison Energy Inc. (HUB) 2275-89 to be effective 2/19/2015.

Filed Date: 2/20/15.

Accession Number: 20150220-5138.

Comments Due: 5 p.m. ET 3/4/15.

Docket Numbers: RP15-489-000.

Applicants: Iroquois Gas Transmission System, L.P.

Description: Section 4(d) rate filing per 154.204: 02/20/15. Negotiated Rates—Mercuria Energy Trading Gas LLC (HUB) 7540-89 to be effective 2/19/2015.

Filed Date: 2/20/15.

Accession Number: 20150220-5141.

Comments Due: 5 p.m. ET 3/4/15.

Docket Numbers: RP15-490-000.

Applicants: East Tennessee Natural Gas, LLC.

Description: Section 4(d) rate filing per 154.204: 02-21-2015 Eastman release to Atmos to be effective 2/21/2015.

Filed Date: 2/20/15.

Accession Number: 20150220-5151.

Comments Due: 5 p.m. ET 3/4/15.

Docket Numbers: RP15-491-000.

Applicants: Iroquois Gas Transmission System, L.P.

Description: Section 4(d) rate filing per 154.204: 02/20/15. Negotiated Rates—Sequent Energy Management (HUB) 3075-89 to be effective 2/19/2015.

Filed Date: 2/20/15.

Accession Number: 20150220-5155.

Comments Due: 5 p.m. ET 3/4/15.

Docket Numbers: RP15-492-000.

Applicants: Iroquois Gas Transmission System, L.P.

Description: Section 4(d) rate filing per 154.204: 02/20/15. Negotiated Rates—United Energy Trading, LLC (HUB) 5095-89 to be effective 2/19/2015.

Filed Date: 2/20/15.

Accession Number: 20150220-5157.

Comments Due: 5 p.m. ET 3/4/15.

Docket Numbers: RP15-493-000.

Applicants: Kern River Gas Transmission Company.

Description: Section 4(d) rate filing per 154.204: 2015 WIC Virtual Receipt Points to be effective 3/23/2015.

Filed Date: 2/20/15.

Accession Number: 20150220-5194.

Comments Due: 5 p.m. ET 3/4/15.

Docket Numbers: RP15-494-000.

Applicants: Northern Natural Gas Company.

Description: Section 4(d) rate filing per 154.204: 20150220 Negotiated Rate to be effective 2/21/2015.

Filed Date: 2/20/15.

Accession Number: 20150220-5216.

Comments Due: 5 p.m. ET 3/4/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-262-001.

Applicants: American Midstream (Midla), LLC.

Description: Compliance filing per 154.203: Midla Compliance Filing in RP15-262 to be effective 2/1/2015.

Filed Date: 2/19/15.

Accession Number: 20150219-5032.

Comments Due: 5 p.m. ET 3/3/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2015.
Nathaniel J. Davis, Sr.,
Deputy Secretary.

[FR Doc. 2015-04316 Filed 3-2-15; 8:45 am]

BILLING CODE 6717-01-P